DEPARTMENT OF COMMERCE

National Institute of Standards and Technology

Advanced Technology Program; Announcement of a Public Meeting

AGENCY: National Institute of Standards and Technology, Commerce.

ACTION: Notice of public meeting.

SUMMARY: The National Institute of Standards and Technology (NIST) invites interested parties to attend a Regional Meeting to learn more about the Advanced Technology Program (ATP). ATP partners with industry on high-risk, high technology research in technologies ranging from advanced manufacturing to medicine and from advanced materials to microelectronics. The Regional Meeting will provide an opportunity for participants to share ideas on the program with ATP staff.

DATES: The Conference will be held on November 13, 2000, from 1 to 5:30 p.m. The Regional Meeting will continue on November 14, 2000, from 8:30 a.m. to 5 p.m.

ADDRESSES: The meeting will be held at the Wyndham Baltimore Inner Harbor Hotel, 101 West Lafayette Street, Baltimore, Maryland 21201. The hotel can be reached at (410) 752-1100.

FOR FURTHER INFORMATION CONTACT: For further information, you may telephone Linda Engelmeier at (301) 975-6026 or e-mail: LindaEngelmeier@nist.gov.

SUPPLEMENTARY INFORMATION: The Omnibus Trade and Competitiveness Act of 1988 (Pub. L. 100-418, 15 U.S.C. 278n), amended by the American Technology Preeminence Act of 1991 (Pub. L. 102-245), directed the establishment of ATP. The purpose of the ATP is to assist United States businesses to carry out research and development on high risk, high pay-off, emerging and enabling technologies.

The Regional Meeting will open with a Conference detailing the new application process for receiving cost-sharing funds. Additionally, the Conference will include a session on “Research Policy on Human and Animal Subjects” and the requirements that must be met should funding be provided by ATP for projects that impact humans or animals.

The second day of the Regional Meeting will include a number of workshops related to funding. They are: (1) Federal R&D Funding Opportunities where five federal agencies will provide an overview of their programs; (2) a State/University Panel will discuss strategic investments and the availability of state matching funds; (3) a dialogue with previous ATP awardees will take place that provides insights into how to successfully apply; and (4) a venture capital panel. Participants will be able to share issues and ask questions during these sessions. There will also be two scientific panels in which an overview of nanotechnology and therapeutic biotechnology will be provided by experts.

Information on the meeting agenda and the registration requirements can be found at the ATP website at: www.atp.nist.gov/regionalmeeting. There is no fee for the Conference on November 13, 2000. There is a registration fee of $100.00 on November 14, 2000 to cover costs of meals and materials.

Dated: October 31, 2000.
Karen H. Brown,
Deputy Director.

[FR Doc. 00-28578 Filed 11-6-00; 8:45 am]

BILLING CODE 3510-13-M